FEDERAL COMMUNICATIONS COMMISSION

47 CFR Parts 1 and 20

[WT Docket No. 10-4; FCC 14-138]

The Commission's Rules To Improve Wireless Coverage Through the Use of Signal Boosters

AGENCY: Federal Communications Commission.

ACTION: Final rule; announcement of effective date.

SUMMARY: In this document, the Federal Communications Commission (Commission) announces that the Office of Management and Budget (OMB) has approved, for a period of three years, certain information collection requirements associated with the Commission's Order on Reconsideration regarding the Commission's rules to Improve Wireless Coverage Through the Use of Signal Boosters, FCC 14-138. This document is consistent with the Order on Reconsideration, which stated that the Commission would publish a document in the Federal Register announcing OMB approval and the effective date of the new information collection requirements.

DATES: 47 CFR 20.21(f)(1)(iv)(A)(2) published at 79 FR 70790, November 28, 2014, are effective on July 7, 2015.

FOR FURTHER INFORMATION CONTACT: Cathy Williams by email at Cathy.Williams@fcc.gov and telephone at (202) 418-2918.

SUPPLEMENTARY INFORMATION: This document announces that, on June 17, 2015, OMB approved certain information collection requirements contained in the Commission's Order on Reconsideration, FCC 14-138, published at 79 FR 70790, November 28, 2014. The OMB Control Number is 3060-1189. The Commission publishes this notice as an announcement of the effective date of these information collection requirements.

Synopsis

As required by the Paperwork Reduction Act of 1995 (44 U.S.C. 3507), the FCC is notifying the public that it received OMB approval on June 17, 2015, for the new information collection requirements contained in the Commission's rules at 47 CFR 20.21(f)(1)(iv)(A)(2). Under 5 CFR part 1320, an agency may not conduct or sponsor a collection of information unless it displays a current, valid OMB Control Number. No person shall be subject to any penalty for failing to comply with a collection of information subject to the Paperwork Reduction Act that does not display a current, valid OMB Control Number. The OMB Control Number is 3060-1189.

The foregoing notice is required by the Paperwork Reduction Act of 1995, Public Law 104-13, October 1, 1995, and 44 U.S.C. 3507.

The total annual reporting burdens and costs for the respondents are as follows:

OMB Control Number: 3060-1189.

OMB Approval Date: June 17, 2015.

OMB Expiration Date: June 30, 2018.

Title: Signal Boosters, sections 1.1307(b)(1), 20.3, 20.21(a)(2), 20.21(a)(5), 20.21(e)(2), 20.21(e)(8)(i)(G), 20.21(e)(9)(i)(H), 20.21(f), 20.21(h), 22.9, 24.9, 27.9. 90.203, 90.219(b)(l)(i), 90.219(d)(5), and 90.219(e)(5).

Form Number: N/A.

Respondents: Business or other for-profit entities, Not for profit institutions and Individuals or household.

Number of Respondents and Responses: 632,595 respondents and 635,215 responses.

Estimated Time per Response: .5 hours-40 hours.

Frequency of Response: Recordkeeping requirement, On occasion reporting requirement and Third party disclosure requirement.

Obligation to Respond: Required to obtain or retain benefits. The statutory authority for this information collection is contained in 47 U.S.C. 154(I), 303(g), 303(r) and 332.

Total Annual Burden: 324,470 hours.

Total Annual Cost: No cost.

Privacy Impact Assessment: This information collection affects individuals or households; thus, there are impacts under the Privacy Act. However, the government is not directly collecting this information and the R&O directs carriers to protect the information to the extent it is considered Customer Proprietary Network Information (CPNI).

Nature and Extent of Confidentiality: There is no need for confidentiality with this collection of information.

Needs and Uses: On September 19, 2014, the Federal Communications Commission (Commission or FCC) adopted an Order on Reconsideration in WT Docket No. 10-4, FCC No. 14-138, in which it took the following action, among others: Required that Consumer Signal Boosters certified for fixed operation only be labeled to notify consumers that such devices may only be used in fixed, in-building locations. Therefore, the new labeling requirement which requires OMB review and approval is as follows:

The labeling requirement is covered under 47 CFR 20.21(f)(1)(iv)(A)(2). The new requirement is needed in order to ensure that consumers are properly informed about which devices are suitable for their use and how to comply with our rules, the Commission required that all Consumer Signal Boosters certified for fixed, in-building operation include a label directing consumers that the device may only be operated in a fixed, in-building location. The Verizon Petitioners state that this additional labeling requirement is necessary to inform purchasers of fixed Consumer Signal Boosters that they may not lawfully be installed and operated in a moving vehicle or outdoor location. We recognize that our labeling requirement imposes additional costs on entities that manufacture Consumer Signal Boosters; however, on balance, we find that such costs are outweighed by the benefits of ensuring that consumers purchase appropriate devices. Accordingly, all fixed Consumer Signal Boosters, both Provider-Specific and Wideband, manufactured or imported on or after one year from the effective date of the rule change must include the following advisory (1) in on-line point-of-sale marketing materials, (2) in any print or on-line owner's manual and installation instructions, (3) on the outside packaging of the device, and (4) on a label affixed to the device: “This device may be operated ONLY in a fixed location for in-building use.”

Federal Communications Commission.
Gloria J. Miles,
Federal Register Liaison Officer.

[FR Doc. 2015-16536 Filed 7-6-15; 8:45 am]

BILLING CODE 6712-01-P